Title 3—

The President

Proclamation 10176 of April 9, 2021

National Former Prisoner of War Recognition Day, 2021

By the President of the United States of America

A Proclamation

Throughout our Nation's history, those who have served in our Armed Forces have steadfastly stood in defense of the United States and of freedom throughout the world. Although countless courageous service members and civilians have given their lives for our Nation, more than half a million others have sacrificed their own freedom as prisoners of war so the cause of liberty always prevails.

Enduring with limitless dignity and determination, these former prisoners of war are a powerful reminder that their indomitable spirit could not be broken, even by brutal treatment in contravention of international law and morality. Despite the terrible suffering inflicted upon them by their captors in harsh prisons and camps in Europe and Asia, American prisoners of war steadfastly demonstrated their devotion to duty, honor, and country.

On this day and every day, let us honor all who have borne the hardships of captivity in service to our Nation, remember the brave men and women who were held as prisoners in foreign lands during our Nation's past conflicts, and recognize those at home who anxiously awaited their loved ones' return. Their faith in God, love of family, and trust in our Nation are an inspiration to all Americans, and we will always remember their sacrifices.

NOW, THEREFORE, I, JOSEPH R. BIDEN JR., President of the United States of America, by virtue of the authority vested in me by the Constitution and the laws of the United States, do hereby proclaim April 9, 2021, as National Former Prisoner of War Recognition Day. I call upon all Americans to observe this day by honoring the service and sacrifice of all former prisoners of war as our Nation expresses its eternal gratitude for their sacrifice. I also call upon Federal, State, and local government officials and organizations to observe this day with appropriate ceremonies and activities.

IN WITNESS WHEREOF, I have hereunto set my hand this ninth day of April, in the year of our Lord two thousand twenty-one, and of the Independence of the United States of America the two hundred and forty-fifth.

[FR Doc. 2021-07755

Filed 4-13-21; 8:45 am]

Billing code 3295-F1-P